OFFICE OF THE UNITED STATES TRADE REPRESENTATIVE

Technical Corrections to the Harmonized Tariff Schedule of the United States

AGENCY: Office of the United States Trade Representative.

ACTION: Notice.

SUMMARY: The United States Trade Representative (USTR) is making technical corrections to subchapter III of chapter 99 of the Harmonized Tariff Schedule of the United States (HTS) as set forth in the annex to this notice, pursuant to authority delegated to the USTR in Presidential Proclamation 6969 of January 27, 1997 (62 FR 4415). These modifications correct inadvertent errors in the Annex to Presidential Proclamation 7585 of August 28, 2002 (67 FR 56207) so that the intended tariff treatment is provided.

EFFECTIVE DATE: The corrections made in this notice are effective with respect to articles entered, or withdrawn from warehouse for consumption, on or after September 1, 2002.

FOR FURTHER INFORMATION CONTACT: Office of Industry, Office of the United States Trade Representative, 600 17th Street, NW., Room 501, Washington DC, 20508. Telephone (202) 395-5656.

SUPPLEMENTARY INFORMATION: On February 18, 2000, pursuant to section 203 of the Trade Act of 1974, as amended (the “Trade Act”) (19 U.S.C. 2253), the President issued Proclamation 7274, which imposed additional duties on certain circular welded carbon quality line pipe (“line pipe”) provided for in subheadings 7306.10.10 and 7306.10.50 of the HTS. On July 29, 2002, the United States Trade Representative (“USTR”) negotiated an agreement with the Republic of Korea limiting the export from Korea and import into the United States of line pipe through the implementation of a tariff-rate quota, to take effect on September 1, 2002. Proclamation 7585 of August 28, 2002, revised the additional duties on line pipe from Korea, replacing them with a tariff-rate quota in the terms provided for under the agreement with Korea. Effective with respect to goods entered, or withdrawn from warehouse for consumption, on or after September 1, 2002, and prior to the close of March 1, 2003, Proclamation 7585 modified subchapter III of chapter 99 of the HTS so as to provide for such tariff-rate quota.

Technical errors introduced through the annex to Proclamation 7585 have come to the attention of USTR. The annex to this notice makes technical corrections to the HTS to remedy these errors. In particular, the annex to this notice corrects errors in the tariff subheadings created by the Annex to Proclamation 7585 and the amount of the tariff-rate quota.

Proclamation 6969 authorized the USTR to exercise the authority provided to the President under section 604 of the Trade Act of 1974 (19 U.S.C. 2483) to embody rectifications, technical or conforming changes, or similar modifications in the HTS. Under authority vested in the USTR by Proclamation 6969, the rectifications, technical and conforming changes, and similar modifications set forth in the annex to this notice shall be embodied in the HTS with respect to goods entered, or withdrawn from warehouse for consumption, on or after the date set forth in each item in the Annex to this notice.

Robert B. Zoellick,
United States Trade Representative.

Annex

Effective with respect to goods entered, or withdrawn from warehouse for consumption, on or after 12:01 a.m. eastern daylight time on September 1, 2002, and prior to the close of March 1, 2003, subchapter III of chapter 99 of the Harmonized Tariff Schedule of the United States is modified as follows:

1. The insertion in the superior text to subheadings 9903.72.20 through 9903.72.25 made by item 1 of the annex to Presidential Proclamation 7585 of August 28, 2002 (67 Fed. Reg. 56207) should have read “of Canada or of Mexico”, and the HTS is therefore modified accordingly.

2. Subheadings 9903.73.24, 9903.73.25, 9903.73.26, 9903.73.27, 9903.73.28 and 9903.73.29, as added to the HTS by item 2 of the annex to that Proclamation, are redesignated as subheadings 9903.72.24, 9903.72.25, 9903.72.26, 9903.72.27, 9903.72.28 and 9903.72.29, respectively.

3. Subheadings 9903.72.25 and 9903.72.26 (as redesignated by item 2 of this annex) are each modified by deleting “31,751,733 kg” and by inserting “15,875,895 kg” in lieu thereof.

[FR Doc. 02-25088 Filed 10-2-02; 8:45 am]

BILLING CODE 3190-01-P